DEPARTMENT OF COMMERCE

Bureau of Industry and Security

15 CFR Parts 740 and 742

[Docket No. 210212-0010]

RIN 0694-XC072

Burma: Implementation of Sanctions

AGENCY: Bureau of Industry and Security, Commerce.

ACTION: Notification.

SUMMARY: In response to the coup perpetrated by the Burmese military wresting control of the democratically-elected government of Burma, the United States Government is reviewing all available actions to hold the perpetrators of the coup responsible. The Department of Commerce's Bureau of Industry and Security (BIS) is taking immediate action to limit exports and reexports of sensitive goods to Burma's military and security services. Effective immediately, BIS is adopting a more restrictive license application review policy of presumption of denial of items requiring a license for export and reexport to Burma's Ministry of Defense, Ministry of Home Affairs, armed forces, and security services. BIS is also suspending the use of certain license exceptions that would otherwise generally be available to Burma as a result of its current Country Group placement in the Export Administration Regulations (EAR).

DATES: Effective February 17, 2021.

FOR FURTHER INFORMATION CONTACT: Tracy Patts, Foreign Policy Division, Office of Nonproliferation and Treaty Compliance, Bureau of Industry and Security, Department of Commerce. Phone: (202) 482-4252; Email: Foreign.Policy@bis.doc.gov.

SUPPLEMENTARY INFORMATION: On February 1, 2021, the Burmese military perpetrated a coup wresting control of the democratically-elected government of Burma, including by detaining State Counselor Aung San Suu Kyi, President Win Myint, and other leaders of the ruling party. The United States Government strongly condemns any efforts to alter the outcome of Burma's recent elections and is committed to supporting the people in Burma who have worked tirelessly in their quest for democracy and peace. These actions are in direct opposition to the will of the Burmese people who have made their voices heard through internationally-sanctioned elections.

The United States Government is reviewing all available actions to hold perpetrators of the coup responsible, and the Department of Commerce's Bureau of Industry and Security (BIS) is hereby taking immediate action to limit exports and reexports of sensitive items to Burma's military and security services under the Export Administration Regulations, 15 CFR parts 730 through 774 (EAR). Currently, transactions requiring a license for export or reexport to Burma are generally subject to case-by-case licensing review consistent with the licensing policies set forth in part 742 and other applicable parts of the EAR. Effective immediately, BIS will apply a presumption of denial for items subject to the EAR requiring a license for export or reexport when destined to Burma's Ministry of Defense, Ministry of Home Affairs, armed forces, and security services. BIS is also suspending the use of certain license exceptions that would otherwise be available to Burma as a result of its current Country Group placement in the EAR.

A license exception is an authorization contained in part 740 of the EAR that allows exports, reexports, or transfers (in-country) under stated conditions of items subject to the EAR that would otherwise require a license. Availability of license exceptions is largely based on Country Group placement (see Supplement No. 1 to part 740). Section 740.2 (Restrictions on all License Exceptions) provides general information on restrictions on all license exceptions.

Burma is currently in Country Group B, which allows certain license exceptions not available for exports and reexports to destinations in more restrictive EAR Country Groups. In this notice, as described in more detail below, BIS suspends the availability of certain license exceptions that would otherwise generally be available as a consequence of Burma's Country Group B placement for exports and reexports to Burma, and transfers (in-country) within Burma, of items subject to the EAR.

BIS is taking this action pursuant to § 740.2(b) of the EAR (15 CFR 740.2(b)), which provides that all license exceptions are subject to revision, suspension, or revocation, in whole or in part, without notice. The following license exceptions are suspended for exports or reexports to Burma, or transfers (in-country) within Burma, either in whole or in part, as specified below:

• Shipments of Limited Value (LVS) (§ 740.3).

• Shipments to Group B Countries (GBS) (§ 740.4).

• Technology and Software under Restriction (TSR) (§ 740.6).

• Computers (APP) (§ 740.7).

Matthew S. Borman,
Deputy Assistant Secretary for Export Administration.

[FR Doc. 2021-03350 Filed 2-17-21; 8:45 am]

BILLING CODE 3510-33-P